DEPARTMENT OF EDUCATION

National Assessment Governing Board; Meeting

AGENCY: National Assessment Governing Board, Education.

ACTION: Notice of open meeting and partially closed meetings.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (i.e., interpreting services, assistive living devices, materials in alternative format) should notify Munira Mwalimu at 202-357-6938 or at Munira.Mwalimu@ed.gov no later than July 24, 2006. We will attempt to meet requests after this date, but cannot guarantee availability of the requested accommodation. The meeting site is accessible to individuals with disabilities.

DATES: August 3-5, 2006.

Times

August 3

Committee Meetings

Assessment Development Committee: Closed Session—9 p.m. to 1 p.m.

Ad Hoc Committee on Planning for NAEP 12th Grade Assessments in 2009: Open Session—1 p.m. to 3 p.m.

Reporting and Dissemination Committee: Open Session—3 p.m. to 4:30 p.m.

Executive Committee: Open Session—4:45 p.m. to 5:15 p.m.; Closed Session 5:15 p.m. to 6:15 p.m.

August 4

Full Board: Open Session—8:30 a.m. to 12:15 p.m.; Closed Session—12:15 p.m. to 1:30 p.m.; Open Session—1:30 p.m.-4:15 p.m.

Committee Meetings

Assessment Development Committee: Open Session—9:45 a.m. to 12:15 p.m.

Committee on Standards, Design and Methodology: Open Session—9:45 a.m. to 12:15 p.m.

Reporting and Dissemination Committee: Open Session—9:45 a.m. to 12:15 p.m.

August 5

Nominations Committee: Open Session—8:15 a.m. to 8:45 a.m.

Full Board: Open Session—9 a.m. to 12 p.m.

Location: The Ritz-Carlton Tysons Corner, 1700 Tysons Boulevard, McLean, VA 22102.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

The Assessment Development Committee will meet in closed session on August 3 from 9 a.m. to 1 p.m. (four hours) to review secure reading passages and items for grade 8 (approximately 200 reading items) for the 2007 National Assessment of Education Progress (NAEP) Reading pilot test. The meeting must be conducted in closed session as disclosure of proposed test items for the Reading pilot test would significantly impede implementation of the NAEP program, and is therefore protected by exemption 9(B) of section 552b(c) of Title 5 U.S.C.

The Ad Hoc Committee on Planning for NAEP 12th Grade Assessments in 2009 will meet in open session on August 3 from 1 p.m. to 3 p.m. and Reporting and Dissemination Committee will meet in open session on August 3 p.m. to 4:30 p.m. Thereafter, the Executive Committee will meet in open session from 4:45 p.m. to 5:15 p.m.

The Executive Committee will meet in closed session on August 3, 2006 from 5:15 p.m. to 6:15 p.m. For the first agenda item during this closed session, the Executive Committee will receive independent government cost estimates from the Associate Commissioner, National Center for Education Statistics (NCES) for proposed contracts for item development, data collection, scoring and analysis, and reporting of National Assessment of Educational Progress (NAEP) results for 2007-2012, and their implications on future NAEP activities. The discussion of independent government cost estimates prior to the development of the Request for Proposals for the NAEP 2007-2012 contracts is necessary for ensuring that NAEP contracts meet congressionally mandated goals and adhere to Board policies on NAEP assessments. This part of the meeting must be conducted in closed session because public disclosure of this information would likely have an adverse financial effect on the NAEP program and would provide an advantage to potential bidders attending the meeting. Discussion of this information would be likely to significantly impede implementation of a proposed agency action if conducted in open session. Such matters are protected by exemption 9(B) of section 552b(c) of Title 5 U.S.C.

The second agenda item for the closed session of the Executive Committee on August 3 is the discussion and nomination of the Board Vice-Chair. This discussion pertains solely to internal personnel rules and practices of an agency and will disclose information of a personal nature where disclosure would constitute an unwarranted invasion of personal privacy. As such, the discussions are protected by exemptions 2 and 6 of section 552b(c) of Title 5 U.S.C.

On August 4, the full Board will meet in open session from 8:30 a.m. to 4:15 p.m. From 8:30 a.m. to 9 a.m. the Board will approve the agenda, followed by an Oath of Office ceremony for a new Board member. The Board will then receive the Executive Director's report and hear an update on the work of the National Center for Education Statistics (NCES).

From 9:45 a.m. to 12:15 p.m. on August 4, the Board's standing committees—the Assessment Development Committee; the Committee on Standards, Design and Methodology, and the Reporting and Dissemination Committee—will meet in open session.

On August 4, the full Board will meet in closed session from 12:15 p.m. to 1:30 p.m. The Board will receive a briefing provided by the Associate Commissioner, NCES, on policy issues relating to upcoming Report Cards and secure student achievement data related to three upcoming NAEP reports. The Board will discuss its proposed Policy Statement and Guidelines on Reporting, Release, and Dissemination of NAEP Results in relation to embargoed data from: (1) The 2005 Trial Urban District Assessment in Science; (2) the 2005 12th Grade Reading and Mathematics Report Card: and (3) the Puerto Rico NAEP Mathematics Assessment. These data constitute a major basis for the national release of the NAEP results, and cannot be released in an open meeting prior to the official release of the reports. The meeting must therefore be conducted in closed session as disclosure of data would significantly impede implementation of the NAEP release activities, and is therefore protected by exemption 9(B) of section 552b(c) of Title 5 U.S.C.

On August 4 from 1:30 p.m. to 2:30 p.m. the Board will receive a report from the Ad Hoc Committee on Planning for NAEP 12th Grade Assessments in 2009. This session will be followed by Board action on the NAEP 12th Grade Mathematics Objectives and Specifications from 2:45 p.m. to 3:30 p.m. From 3:30 p.m. to 4:15 p.m., the Board will take action on the NAGB Policy Statement and Guidelines on Reporting, Release, and Dissemination of NAEP Results, upon which the August 4 session of the Board meeting will conclude.

On August 5, 2006 from 8:15 a.m. to 8:45 a.m., the Nominations Committee will meet in open session. From 9 a.m. to 9:30 a.m. the full Board will meet in open session to receive a briefing on NAEP Assessment and Booklet Design, followed by Board action from 9:30 a.m. to 10 a.m. on NAEP/NAGB Public Identity Marks. From 10 a.m. to 10:30 a.m., the Board will receive an update on the NAEP 2011 Writing Framework project.

Board actions on policies and Committee reports are scheduled to take place between 10:45 a.m. and 12 p.m., upon which the August 5, 2006 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. eastern standard time.

Dated: July 3, 2006.
Munira Mwalimu,
Operations Officer, National Assessment Governing Board.

[FR Doc. 06-6036 Filed 7-6-06; 8:45 am]

BILLING CODE 4000-01-M